OFFICE OF MANAGEMENT AND BUDGET

Request for Comments on Updated Guidance for Completing the Transition to the Next Generation Internet Protocol, Internet Protocol Version 6 (IPv6)

AGENCY: Office of Management and Budget.

ACTION: Notice of public comment period.

SUMMARY: The Office of Management and Budget (OMB) is seeking public comment on a draft memorandum titled, Completing the Transition to Internet Protocol Version 6.

DATES: The public comment period on the draft memorandum begins on the day it is published in the Federal Register and ends 30 days after date of publication in the Federal Register. Privacy/FOIA Notice: Comments submitted in response to this notice may be publically available and are subject to disclosure under the Freedom of Information Act. For this reason, please do not include in your comments information of a confidential nature, such sensitive personal information or proprietary information, or any other information that you would not want publically disclosed.

ADDRESSES: Interested parties should provide comments via electronic mail to the following inbox: OFCIO@omb.eop.gov. The Office of Management and Budget is located at 725 17th Street NW, Washington, DC 20503. No physical copies will be accepted.

FOR FURTHER INFORMATION CONTACT: Carol Bales, OMB, at 202.395.9915 or cbales@omb.eop.gov.

SUPPLEMENTARY INFORMATION: The Office of Management and Budget (OMB) is proposing updated guidance to Federal agencies on completing the transition to Internet Protocol Version 6 (IPv6). In August 2005, OMB issued M-05-22, Transition Planning for Internet Protocol Version 6 (IPv6), requiring agencies to enable IPv6 on their backbone networks by June 30, 2008. This policy outlined deployment and acquisition requirements. In September 2010, OMB issued a memo titled “Transition to IPv6”, requiring Federal agencies to operationally deploy native IPv6 for public internet servers and internal applications that communicate with public servers. The intent of the newly proposed policy articulated in the draft memorandum is to communicate the requirements for completing the operational deployment of IPv6 across all Federal information systems and services, and help agencies overcome barriers that prevent them from migrating to IPv6-only systems.

In the last 5 years, IPv6 momentum in industry has dramatically increased, with large IPv6 commercial deployments in many business sectors now driven by reducing cost, decreasing complexity, improving security and eliminating barriers to innovation in networked information systems. Mobile networks, data centers and leading-edge enterprise networks, for example, have been evolving to IPv6-only networks. It is essential for the Federal government to expand and enhance its strategic commitment to the transition to IPv6 in order to keep pace with and capitalize on industry trends. The attached draft memorandum prepared by the Office of Management and Budget, in collaboration with the Federal Chief Information Officers Council and Federal Chief Information Security Officers Council, supports the Administration's goals for modernizing Federal Information Technology.

Suzette Kent,
Federal Chief Information Officer, Office of the Federal Chief Information Officer, Office of Management Budget.

[FR Doc. 2020-04202 Filed 2-28-20; 8:45 am]

BILLING CODE 3110-05-P